DEPARTMENT OF THE INTERIOR

Fish and Wildlife Service

[FWS-R1-ES-2019-0091; FXES11140100000-201-FF01E00000]

Draft Environmental Impact Statement and Draft Habitat Conservation Plan; Receipt of Applications for Incidental Take Permits; Klamath, Deschutes, Jefferson, Crook, Wasco, and Sherman Counties, Oregon; Extension of Public Comment Period

AGENCY: Fish and Wildlife Service, Interior.

ACTION: Notice of availability; extension of public comment period.

SUMMARY: The U.S. Fish and Wildlife Service (Service) is extending the public comment period for the draft environmental impact statement (DEIS) and habitat conservation plan (HCP) in support of incidental take permit (ITP) applications received from the Deschutes Basin Board of Control, on behalf of its eight member irrigation districts, and the City of Prineville (applicants). The applicants have submitted applications for ITPs to both the Service and the National Marine Fisheries Service for various species under each agency's jurisdiction. Also available for review is the Service's DEIS, which was prepared in response to the applications.

DATES: The comment period for the DEIS and HCP addressing the ITP applications for incidental take, which published on October 4, 2019 (84 FR 53164), is extended by 15 days. Please submit your written comments by 11:59 p.m. EST on December 3, 2019.

ADDRESSES:

Document availability: To view the DEIS and HCP, go to http://www.regulations.gov and search for Docket No. FWS-R1-ES-2019-0091.

Submitting comments: You may submit comments by one of the following methods. If you have already submitted a comment, you need not resubmit it.

• Online: You may submit comments online at http://www.regulations.gov/ in Docket No. FWS-Rl-ES-2019-0091.

• Hard copy: Submit comments by U.S. mail or hand delivery to Public Comments Processing, Attn: Docket No. FWS-Rl-ES-2019-0091; U.S. Fish and Wildlife Service; 5275 Leesburg Pike, MS: JAO/lN; Falls Church, VA 22041-3803.

FOR FURTHER INFORMATION CONTACT: Bridget Moran, by telephone at 541-383-7146, or by email at bridget_moran@fws.gov. Hearing or speech impaired individuals may call the Federal Relay Service at 800-877-8339 for TTY assistance.

SUPPLEMENTARY INFORMATION: The U.S. Fish and Wildlife Service (Service) and National Marine Fisheries Service (NMFS) received incidental take permit (ITP) applications on August 30, 2019, from the Deschutes Basin Board of Control (DBBC) member districts (Arnold, Central Oregon, Lone Pine, North Unit, Ochoco, Swalley, Three Sisters, and Tumalo Irrigation Districts), and the City of Prineville (applicants) in accordance with the requirements of the Endangered Species Act, as amended (ESA; 16 U.S.C. 1531 et seq.). The applicants prepared the draft Deschutes Basin habitat conservation plan (HCP) in support of the ITP applications and are seeking authorization for take of the federally threatened Oregon spotted frog (Rana pretiosa) and bull trout (Salvelinus confluentus) from the Service; and take of the federally threatened Middle Columbia River steelhead trout (Oncorhynchus mykiss) and the non-listed Middle Columbia River spring Chinook salmon (O. tshawytscha) and sockeye salmon (O. nerka) from the NMFS.

The ITPs, if issued, would authorize take of the covered species that may occur incidental to the storage, release, diversion, and return of irrigation water by the DBBC member districts and groundwater withdrawals, effluent discharges, and surface water diversions by the City of Prineville.

We are extending the public comment period on the DEIS and HCP documents (see DATES and ADDRESSES).

Public Availability of Comments

We will post on http://regulations.gov all public comments and information received electronically. All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety.

Authority

We provide this notice in accordance with the requirements of section 10 of the ESA and its implementing regulations (50 CFR 17.32) and NEPA and its implementing regulations (40 CFR 1506.6).

Robyn Thorson,
Regional Director, U.S. Fish and Wildlife Service.

[FR Doc. 2019-23670 Filed 10-29-19; 8:45 am]

BILLING CODE 4333-15-P